RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Statement of Claimant or Other Person.

(2) Form(s) submitted: G-93.

(3) OMB Number: 3220-0183.

(4) Expiration date of current OMB clearance: 11/30/2000.

(5) Type of request: Extension of a currently approved collection.

(6) Respondents: Individuals or households, Business or other for-profit.

(7) Estimated annual number of respondents: 900.

(8) Total annual responses: 900.

(9) Total annual reporting hours: 225.

(10) Collection description: Under Section 2 of the Railroad Retirement Act and the Railroad Unemployment Insurance Act, pertinent information and proofs must be submitted by an applicant so that the Railroad Retirement Board can determine his or her entitlement to benefits. The collection obtains information supplementing or changing the information previously provided by an applicant.

Additional Information or Comments: Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, D.C. 20503.

Chuck Mierzwa,
Clearance Officer.

[FR Doc. 00-23367 Filed 9-11-00; 8:45 am]

BILLING CODE 7905-01-M